DEPARTMENT OF ENERGY

Federal Energy Regulatory Commission

[Docket No. IC26-8-000]

Commission Information Collection Activities (Ferc-538) Comment Request; Extension

AGENCY: Federal Energy Regulatory Commission.

ACTION: Notice of information collection and request for comments.

SUMMARY: In compliance with the requirements of the Paperwork Reduction Act of 1995, the Federal Energy Regulatory Commission (Commission or FERC) is soliciting public comment on the currently approved information collection FERC-538 (Gas Pipeline Certificates: Section 7(a) Mandatory Initial Service).

DATES: Comments on the collection of information are due March 27, 2026.

ADDRESSES: Please submit comments via email to DataClearance@FERC.gov. You must specify the Docket No. (IC26-8-000) and the FERC Information Collection number (FERC-538) in your email. If you are unable to file electronically, comments may be filed by USPS mail or by hand (including courier) delivery:

• Mail via U.S. Postal Service only, addressed to: Federal Energy Regulatory Commission, Secretary of the Commission, 888 First Street NE, Washington, DC 20426.

• Hand (including courier) delivery to: Federal Energy Regulatory Commission, 12225 Wilkins Avenue, Rockville, MD 20852.

Docket: To view information related to this docket, please visit https://elibrary.ferc.gov/eLibrary/search.

FOR FURTHER INFORMATION CONTACT: Kayla Williams may be reached by email at DataClearance@FERC.gov, or by telephone at (202)502-6468.

SUPPLEMENTARY INFORMATION:

Title: Gas Pipeline Certificates: Section 7(a) Mandatory Initial Service.

OMB Control No.: 1902-0061.

Type of Request: Three-year extension of the FERC-538 information collection requirements with no changes to the current reporting requirements.

Abstract: The purpose of FERC-538 is to implement the information collections pursuant to sections 7(a), 10(a) and 16 of Natural Gas Act,¹ and part 156 of the Commission Regulations.² These statutes and regulations allow for the Commission, after receiving an application, to order a natural gas company to extend or improve its transportation facilities and sell natural gas to the municipality or person and, for such purpose, to extend its transportation facilities to communities immediately adjacent to such facilities or to territories served by the natural gas pipeline company. The Commission uses the application data in order to be fully informed concerning the applicant, and the service the applicant is requesting.

¹ 15 U.S.C. 717f-w.

² 18 CFR part 156 (2005).

Type of Respondents: Persons or municipalities authorized to engage in the local distribution of natural gas.

Estimate of Annual Burden: ³ The Commission estimates the annual reporting burden and cost for the information collection as:

³ “Burden” is defined as the total time, effort, or financial resources expended by persons to generate, maintain, retain, or disclose or provide information to or for a federal agency. For further explanation of what is included in the information collection burden, reference 5 CFR 1320.3.

⁴ Commission staff estimates that the industry's hourly cost for wages plus benefits is similar to the Commission's $103 FY 2025 average hourly cost for wages and benefits.

| Number of respondents | Annual number of responses per respondent | Total number of responses | Average burden hrs. & cost ($) per response ⁴ | Total annual burden hours & total annual cost ($) | Cost per respondent ($)
| (1) | (2) | (1) * (2) = (3) | (4) | (3) * (4) = (5) | (5) ÷ (1)
Gas Pipeline Certificates | 1 | 1 | 1 | 240 hrs.; $24,720 | 240 hrs.; $24,720 | 24,720

Comments: Comments are invited on: (1) whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: January 20, 2026.
Debbie-Anne A. Reese,
Secretary.

[FR Doc. 2026-01348 Filed 1-23-26; 8:45 am]

BILLING CODE 6717-01-P